DEPARTMENT OF LABOR

Employment and Training Administration

[TA-W-54,820; TA-W-54,820A]

Moosehead Manufacturing: Monson, Maine; Dover-Foxcroft, Maine; Amended Certification Regarding Eligibility To Apply for Worker Adjustment Assistance and Negative Determination Regarding Eligibility To Apply for Alternative Trade Adjustment Assistance

In accordance with section 223 of the Trade Act of 1974 (19 U.S.C. 2273) the Department Labor issued a Certification of Eligibility to Apply for Worker Adjustment Assistance and a negative determination to apply for Alternative Trade Adjustment Assistance on May 13, 2004, applicable to workers of Moosehead Manufacturing, Monson, Maine.

At the request of the State agency, the Department reviewed the certification for workers of the subject firm. The workers are engaged in the production of furniture.

New findings show that the information provided by Moosehead Manufacturing Company in the petition for Trade Adjustment Assistance and, consequently, in the Business Confidential Data Request form, included the company's Dover-Foxcroft facility in Maine. Workers at the Dover-Foxcroft, Maine facility also produce furniture, and their layoffs were due to the same circumstances.

Accordingly, the Department is amending the certification to cover workers at Moosehead Manufacturing Company, Dover-Foxcroft, Maine.

The intent of the Department's certification is to include all workers of Moosehead Manufacturing Company who were adversely affected by increased imports.

The amended notice applicable to TA-W-54,820 is hereby issued as follows:

All workers of Moosehead Manufacturing Company, Monson, Maine (TA-W-54,820) and Moosehead Manufacturing Company, Dover-Foxcroft, Maine (TA-W-54,820A), who became totally or partially separated from employment on or after April 7, 2003, through May 13, 2006, are eligible to apply for adjustment assistance under section 223 of the Trade Act of 1974.

I further determine that all workers of Moosehead Manufacturing Company, Monson and Dover-Foxcroft, Maine, are denied eligibility to apply for alternative trade adjustment assistance under section 246 of the Trade Act of 1974.

Signed in Washington, DC, this 28th day of May, 2004.
Richard Church,
Certifying Officer, Division of Trade Adjustment Assistance.

[FR Doc. 04-13381 Filed 6-14-04; 8:45 am]

BILLING CODE 4510-30-P